DEPARTMENT OF HOMELAND SECURITY

Coast Guard

33 CFR Parts 151, 155, and 160

[USCG-2008-1070]

RIN 1625-AB27

Nontank Vessel Response Plans and Other Vessel Response Plan Requirements

AGENCY: Coast Guard, DHS.

ACTION: Notice of public meetings; request for comments.

SUMMARY: The Coast Guard announces three public meetings to receive comments on a notice of proposed rulemaking that would require owners or operators of nontank vessels to prepare and submit oil spill response plans. The meetings will be held to allow for greater public involvement.

DATES: The public meetings will be held at the following locations:

• Washington, DC, October 28, 2009, from 1 p.m. to 3:30 p.m.

• Oakland, CA, November 3, 2009, from 1 p.m. to 3:30 p.m.

• New Orleans, LA, November 19, 2009, from 4:30 p.m. to 7 p.m.

Written comments and related material may also be submitted to Coast Guard personnel specified at that meeting. The comment period for the proposed rule closes November 30, 2009. All comments and related material submitted after the meeting must either be submitted to our online docket via http://www.regulations.gov on or before November 30, 2009, or reach the Docket Management Facility by that date.

ADDRESSES: The public meetings will be held at the following locations:

• Washington, DC—United States Coast Guard Headquarters Building, Room 4202, 2100 Second St, SW., Washington, DC 20593.

• Oakland, CA—Ronald V. Dellums Federal Building, Auditorium, 3rd Floor North Tower, 1301 Clay Street, Oakland, CA 94612.

• New Orleans, LA—Ernest N. Morial Convention Center, Room 208, Exhibit Hall A, 900 Convention Center Blvd, New Orleans, LA 70130.

You may submit written comments identified by docket number USCG-2008-1070 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2008-1070.

FOR FURTHER INFORMATION CONTACT: If you have questions about this proposed rulemaking, contact Lieutenant Jarrod DeWitz, U.S. Coast Guard, Office of Vessel Activities, Vessel Response Plan Review Team, telephone (202) 372-1219. You may also e-mail questions to Jarrod.M.DeWitz@uscg.mil. If you have questions on viewing or submitting material to the docket, call Ms. Renee V. Wright, Program Manager, Docket Operations, telephone 202-366-9826.

SUPPLEMENTARY INFORMATION:

Background and Purpose

We published a notice of proposed rulemaking (NPRM) in the Federal Register on August 31, 2009 (74 FR 44970), entitled “Nontank Vessel Response Plans and Other Vessel Response Plan Requirements.” In it, we stated our intention to hold one or more public meetings, and to publish a notice to announce the location and date of the public meetings. In this notice, we announce those public meetings to receive comments on this proposed rule.

In the NPRM, we proposed requiring owners or operators of nontank vessels to prepare and submit oil spill response plans. The Federal Water Pollution Control Act defines nontank vessels as self-propelled vessels of 400 gross tons or greater that operate on the navigable waters of the United States, carry oil of any kind as fuel for main propulsion, and are not tank vessels. The proposed rule would specify the content of a response plan, and among other issues, address the requirement to plan for responding to a worst case discharge and a substantial threat of such a discharge. Additionally, the proposed rule would update the international Shipboard Oil Pollution Emergency Plan (SOPEP) requirements that apply to nontank vessels and certain tank vessels. Finally, the proposed rule would require vessel owners and operators to submit their vessel response plan control number as part of already required notice of arrival information.

You may view the NPRM in our online docket, in addition to supporting documents prepared by the Coast Guard (Regulatory Analysis & Initial Regulatory Flexibility Analysis), and comments submitted thus far by going to http://www.regulations.gov. Once there, select the Advanced Docket Search option on the right side of the screen, insert USCG-2008-1070 in the Docket ID box, press Enter, and then click on the item in the Docket ID column. If you do not have access to the Internet, you may view the docket by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this rulemaking by submitting comments either orally at a meeting or in writing. If you bring written comments to a meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008 issue of the Federal Register (73 FR 3316).

Information on Service for Individuals With Disabilities

For information on facilities or services for individuals with disabilities or to request special assistance at the public meeting, contact Lieutenant Jarrod DeWitz at the telephone number indicated under the FOR FURTHER INFORMATION CONTACT section of this notice.

Public Meeting

The Coast Guard will hold three public meetings regarding this proposed rulemaking on the following dates and at the following locations:

• Washington, DC, October 15, 2009, from 1 p.m. to 3:30 p.m., at the United States Coast Guard Headquarters Building, Room 4202, 2100 Second Street SW., Washington, DC 20593. Note: A government-issued photo identification (for example, a driver's license) will be required for entrance to the building.

• Oakland, CA, November 3, 2009, from 1 p.m. to 3:30 p.m., at the Ronald V. Dellums Federal Building, Auditorium, 3rd Floor North Tower, 1301 Clay Street, Oakland, CA 94612. Note: A government-issued photo identification (for example, a driver's license) will be required for entrance to the building.

• New Orleans, LA, November 19, 2009, from 4:30 p.m. to 7 p.m., at the Ernest N. Morial Convention Center, Room 208, Exhibit Hall A, 900 Convention Center Blvd, New Orleans, LA 70130.

Members of the public may attend these meetings up to the seating capacity of the rooms. The meetings may conclude before the allotted time if all matters of concern have been addressed.

We plan to record each meeting using an audio-digital recorder and to make that audio recording available through a link in our online docket. A written summary of comments made and a list of attendees will be placed in the docket after each meeting concludes.

Dated: September 21, 2009.
J.G. Lantz,
Director of Commercial Regulations and Standards, U.S. Coast Guard.

[FR Doc. E9-23161 Filed 9-24-09; 8:45 am]

BILLING CODE 4910-15-P